DEPARTMENT OF HEALTH AND HUMAN SERVICES

Centers for Disease Control and Prevention

[30DAY-28-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: National AIDS and STD Hotline Survey of Callers (OMB No. 0920-0295)—Revision—National Center for HIV, STD, and TB Prevention (NCHSTP), Centers for Disease Control and Prevention (CD). The purpose of this request is to continue active and passive data collection from people who call the CDC National AIDS and Sexually Transmitted Disease (STD) Hotlines. The mission of the CDC National AIDS and STD Hotlines is to provide the general population of the United States, its territories, and Puerto Rico with highly visible and readily accessible resources for accurate and timely information on HIV/AIDS and other STDs. The CDC is seeking OMB approval for renewal of the data collection with one proposed change and one proposed system enhancement, both aimed at improving the management and evaluation of collected information.

The change is the ability of CDC to survey every 15th caller, instead of every 30th caller, to the hotlines. The information gathered will assist CDC in the improvement of HIV and STD services, particularly to high-risk populations. Before the integration of the National AIDS and STD Hotlines in 1998, every 15th caller was surveyed in the AIDS hotline, and every 30th caller was surveyed in the STD hotline.

The National AIDS Hotline responded to a maximum of 1.6 million calls per year during the 1980s and early 1990s. Throughout the period, the calls have decreased to approximately 650,000 calls per year due to changes such as treatment advances, a more knowledgeable audience, and access to information on the Internet. However, the number of callers selected for the survey has increased to assure that a substantial amount of data can be submitted to CDC regarding information about the callers who contact the hotline. Respondents (callers) will be the general public, and only the callers to the hotlines will be affected.

The enhancement to the data collection is the employment of a partially integrated system that will allow CDC Information Specialists to answer calls about HIV/AIDS and STDs using the same toll free telephone system. The telephone system will be designed to display telephone numbers for both the AIDS Hotline and the STD Hotline. Thus, when a caller contacts the hotline for AIDS information, the phone for the AIDS Hotline will appear on the caller ID. If the caller wants additional information about STDs, the same Information Specialist can respond to the call rather than requesting that the caller place a separate call to the STD Hotline. This process will also allow for an integrated data collection system for AIDS and STD caller information and service evaluation, as well as allow CDC to provide a more efficient and effective means of addressing the needs of its constituents.

In addition, since both hotlines will still retain their separate telephone numbers, the call volume can be monitored separately with distinct extrapolation of data. This integrated system began in August 2000. The integrated system also supports strategies in the CDC HIV Prevention Strategic Plan Through 2005, which also states that HIV prevention must be integrated with STD prevention.

Data will be collected on an active and passive basis for both hotlines. The active data collection method occurs while the caller is on the phone. It allows the Information Specialist to gather information about caller demographics such as age, race, ethnicity and education through a short survey administered at the conclusion of the call. The passive data collection instrument allows the Information Specialist to capture more specific information about the characteristics of the caller such as the callers primary topic for discussion, gender, level of concern of caller. The Information Specialist enters this information into a database once the call is completed.

To assist in completing the surveys and providing accurate data responses, the hotlines will be using the CDC Federal Telecommunications Service (FTS) 2001 telephone systems; call length data from the Integrated Information Program (IIP), which is a computer interface. The hotlines will also be using the Automated Call Distribution (ACD) program which allows the calls to be distributed to the correct numbers (AIDS or STD) and Symposium software which can assist the hotlines in several areas, including quickly (1) determining what happened to a call that may be in the queue,(2) compiling a geographic distribution table of all calls throughout the United States, including ages of callers,(3) and routing calls to the English, Spanish or TTY service.

For the AIDS and STD integrated English service, the estimated number of persons surveyed for the active survey is 34,520, and the average active survey length is 72 seconds with a yearly burden of 691 hours. It is estimated that passive surveys are completed on 29,420 calls, and the average passive survey length for completion is 179 seconds, with a yearly burden of 1,463 hours.

Active surveys for the Spanish service for the AIDS Hotline are estimated to be about 5,040 calls with an average active survey length of 88 seconds. The average number of passive surveys estimated for the Spanish service is 5,000. All callers are surveyed from the TTY service and one out of three callers are surveyed from the Spanish service. The total estimated annualized burden is 1,071 hours.

Survey | Number of respondents | Number of responses per respondent | Average burden per response (in seconds)
AIDS Hotline (English) | 21,760 | 1 | 1.5
AIDS Hotline (Spanish) | 5,040 | 1 | 2
AIDS Hotline (TTY Service) | 350 | 1 | 7
STD Hotline (Spanish) | 12,760 | 1 | 1.5

Dated: May 10, 2002.
Nancy E. Cheal,
Acting Associate Director for Policy, Planning and Evaluation, Centers for Disease Control and Prevention.

[FR Doc. 02-12513 Filed 5-17-02; 8:45 am]

BILLING CODE 4163-18-P